POSTAL SERVICE

Privacy Act of 1974, Systems of Records

AGENCY: Postal Service.

ACTION: Advance notice of amendment to an existing system of records with the deletion of two general routine uses, and the addition of two new routine uses.

SUMMARY: The Postal Service proposes to amend Postal Service Privacy Act System of Records, 140.020, Postage—Postage Evidencing System Records. The proposed amendments reflect the collection and use of data to authorize and process the purchase of postage by credit cards for certain postage evidencing systems. This notice amends the following sections to reflect the acceptance of credit cards: Categories of records in the system; routine uses of records maintained in the system, including categories of users and the purposes of such uses; safeguards; notification procedure and record source categories.

DATES: This proposal will become effective without further notice on March 15, 2002, unless comments received on or before that date result in a contrary determination.

ADDRESSES: Mail or deliver written comments to the Records Office, U.S. Postal Service, Room 5846, 475 L'Enfant Plaza, SW, Washington, DC 20260-5846. You can view or make copies of all written comments between 8 a.m. and 4 p.m., Monday through Friday, at the same address.

FOR FURTHER INFORMATION CONTACT: Susie Travers, Records Office, 202-268-3362.

SUPPLEMENTARY INFORMATION: The Postal Service revised the Privacy Act system of records in USPS 140.020, Postage—Postage Evidencing System Records, in a notice published in the Federal Register on June 26, 2000, (65 FR 39446-39447). The revision further limited the categories of records covered. It was determined that only destinating five-digit ZIP Code information was needed to accomplish the system purpose.

The Postal Service is publishing this notice to expand the categories of records covered by the system to collect data for the acceptance of credit cards to include the credit card number, credit card expiration date, and credit card transaction number. The Postal Service is deleting general routine use (a), which is being replaced by new routine use 4, and routine use (m), because it is not necessary to share this information with the labor organizations. Routine use 3 is added to reflect how information may be disclosed for the purpose of authorizing and processing the purchase of postage by credit card. Routine use 4 permits disclosure for law enforcement purposes only pursuant to a Federal search warrant.

In addition to the protections imposed by the Privacy Act, the Postal Reorganization Act imposes restrictions on the disclosure of information of the type kept within system USPS 140.020. The Privacy Act prohibits the Postal Service from disclosing lists of postal customers or other persons.

For the above reasons, the Postal Service proposes to amend the following system:

USPS 140.020

SYSTEM NAME:

Postage—Postage Evidencing System Records, 140.020.

* * * * *

Categories of Records in the System:

[CHANGE TO READ]

Customer name and address, change of address information, corporate business customer information (CBCIS) number, business profile information, estimated annual postage and annual percentage of mail by type, type of usage (customer, postal, or government), post office where mail is entered, license number, date of issuance, ascending and descending register values, device identification number, device model number, certificate serial number, amount and date of postage purchases, credit card number, credit card expiration date, credit card transaction number, address verification service (AVS) response from credit card processor, credit card issuer authorization code, credit card billing address, amount of unused postage refunded, contact telephone number, date, destinating five-digit ZIP Code and rate category of each indicium created, and transaction documents.

* * * * *

Routine Uses of Records Maintained in the System, Including Categories of Users and the Purposes of Such Uses:

[CHANGE TO READ]

General routine use statements b, c, d, e, f, g, h, and j listed in the prefatory statement at the beginning of the Postal Service's published system notices apply to this system. Other routine uses are as follows:

* * * * *

[ADD]

3. Records or information from this system may be disclosed to the Postal Service's designated credit card processor for the purpose of authorizing and processing the purchase of postage by credit card.

4. Information from this system may be disclosed for law enforcement purposes to a government agency, either Federal, State, local, or foreign, only pursuant to a federal warrant duly issued under Rule 41 of the Federal Rules of Criminal Procedure. See Administrative Support Manual (ASM) 274.6 for procedures relating to search warrants.

* * * * *

Safeguards:

[CHANGE TO READ]

Paper records and computer storage media are maintained in closed file cabinets in secured facilities; automated records are protected by computer password. Information obtained from users over the Internet is transmitted electronically to the Postal Service by authorized postage evidencing system providers via a virtual, private network.

* * * * *

Notification Procedure:

[CHANGE TO READ]

Individuals wanting to know whether information about them is maintained in this system of records must address inquiries in writing to: Manager, Postage Technology Management, United States Postal Service, 1735 North Lynn Street, Room 5011, Arlington, VA 22209-6054. When making this request, an individual must supply the license number and his or her name as it appears on the postage evidencing system license.

* * * * *

Record Source Categories:

[CHANGE TO READ]

License applications, licenses, postal officials administering postage evidencing systems, postage evidencing system activity reports, refund requests for unused postage, credit card transactions, postage evidencing system resetting reports, log file entries, and authorized service providers of postage evidencing systems.

Stanley F. Mires,
Chief Counsel, Legislative.

[FR Doc. 02-3412 Filed 2-12-02; 8:45 am]

BILLING CODE 7710-12-P